DEPARTMENT OF AGRICULTURE

Agricultural Marketing Service

[Docket No. L.S.-00-09]

Notice of Request for Extension and Revision of Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for the Seed Service Testing Program.

DATES: Comments on this notice must be received by December 11, 2000 to be assured of consideration.

Additional Information or Comments: Richard C. Payne, Chief, Seed Regulatory and Testing Branch (SRTB), Livestock and Seed Program, AMS, Room 209, Building 306, BARC-E., Beltsville, Maryland 20705-2325, telephone (301) 504-9430, Fax (301) 504-8098.

SUPPLEMENTARY INFORMATION: Title: Seed Service Testing Program.

OMB Number: 0581-0140.

Expiration Date of Approval: July 31, 2001.

Type of Request: Extension and revision of currently approved information collection.

Abstract: This information collection is necessary to conduct voluntary seed testing on a fee for service basis. The AMA of 1946, as amended, 7 U.S.C. 1621 et seq. authorizes the Secretary to inspect and certify the quality of agricultural products and collect such fees as reasonable to cover the cost of service rendered.

The purpose of the voluntary program is to promote efficient, orderly marketing of seeds, and assist in the development of new and expanding markets. Under the program, samples of agricultural and vegetable seeds submitted to the Agricultural Marketing Service are tested for factors such as purity and germination at the request of the applicant for the service. In addition, grain samples, submitted at the applicant's request, by the Grain Inspection, Packers and Stockyards Administration are examined for the presence of certain weed and crop seed. A Federal Seed Analysis Certificate is issued giving the test results. Most of the seed tested under this program is scheduled for export. Many importing countries require a Federal Seed Analysis Certificate on U.S. seed.

The only information collected is information needed to provide the service requested by the applicant. This includes information to identify the seed being tested, the seed treatment (if treated with a pesticide), the tests to be performed, and any other appropriate information required by the applicant to be on the Federal Seed Analysis Certificate.

The number of seed companies applying for the seed testing service has decreased from 92 to 65 during the past 3 years due to consolidation of the seed industry. Even though the number of seed companies applying for the service has decreased, the number of samples received for testing has increased slightly. Therefore, the average burden for information collection has increased for seed companies applying for the service.

The information in this collection is used only by authorized AMS employees to track, test, and report test results to the applicant.

Estimate of Burden: Public reporting burden for this collection of information is estimated to average .25 hours per response.

Respondents: Applicants for seed testing service.

Estimated Number of Respondents: 65.

Estimated Number of Responses per Respondent: 24.1.

Estimated Total Annual Burden on Respondents: 392 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical or other technological collection techniques or other forms of information technology. Comments may be sent to Richard C. Payne, Chief, Seed Regulatory and Testing Branch, L.S., AMS, USDA, Room 209, Building 306, BARC-E., Beltsville, Maryland 20705-2325 or by E-mail to richard.payne2@usda.gov. All comments received will be available for public inspection during regular business hours at the same address.

All responses to this notice will be summarized and included in the request for OMB approval. All comments will become a matter of public record.

Dated: October 4, 2000.
Barry L. Carpenter,
Deputy Administrator, Livestock and Seed Program.

[FR Doc. 00-26107 Filed 10-11-00; 8:45 am]

BILLING CODE 3410-02-P